DEPARTMENT OF COMMERCE

Office of the Secretary

[DOCKET NO.: 221020-0224]

Public Availability of Department of Commerce FY 2020 Service Contract Inventory Data

AGENCY: Office of the Secretary, Department of Commerce.

ACTION: Notice of public availability.

SUMMARY: In accordance with section 743 of Division C of the Consolidated Appropriations Act of 2010, the Department of Commerce (DOC) is publishing this notice to advise the public of the availability of the Fiscal Year (FY) 2020 Service Contract Inventory data, a report that analyzes DOC's FY 2019 Service Contract Inventory and a plan for the analysis of FY 2020 Service Contract Inventory.

ADDRESSES: The Department of Commerce's FY 2020 Service Contract Inventory is included in the government-wide inventory available at: https://www.acquisition.gov/service-contract-inventory, which can be filtered to display the FY 2020 inventory for each agency. In addition to the link to access DOC's FY 2020 service contract inventory, the FY 2019 Analysis Report and Plan for analyzing the FY 2020 data is on the Office of Acquisition Management homepage at the following link https://www.commerce.gov/oam/resources/service-contract-inventory. OFPP's guidance memo on service contract inventories is available at: http://www.whitehouse.gov/sites/default/files/omb/procurement/memo/service-contract-inventories-guidance-11052010.pdf.

FOR FURTHER INFORMATION CONTACT: Questions regarding the service contract inventory should be directed to Virna Winters, Director for Acquisition Policy and Oversight Division at 202-482-4248 or vwinters@doc.gov.

SUPPLEMENTAL INFORMATION: The service contract inventory provides information on service contract actions over $150,000 made in FY 2020. The information is organized by function to show how contracted resources are distributed throughout the agency. The inventory has been developed in accordance with guidance on service contract inventories issued on November 5, 2010, by the Office of Management and Budget's Office of Federal Procurement Policy (OFPP).

Olivia J. Bradley,
Senior Procurement Executive and Director, Office of Acquisition Management.

[FR Doc. 2023-01558 Filed 1-25-23; 8:45 am]

BILLING CODE 3510-DT-P